NATIONAL AERONAUTICS AND SPACE ADMINISTRATION

48 CFR Part 1852

RIN 2700-AE42

NASA FAR Supplement: Preproposal/Pre-Bid Conference (2017-N023)

AGENCY: National Aeronautics and Space Administration.

ACTION: Final rule.

SUMMARY: NASA is issuing a direct final rule to amend the NASA FAR Supplement (NFS) to remove reference to the NASA Acquisition Information System (NAIS) electronic posting system and revise titles to agency directives.

DATES: This direct final rule is effective October 16, 2017. Comments due on or before September 15, 2017. If adverse comments are received, NASA will publish a timely withdrawal of the rule in the Federal Register.

FOR FURTHER INFORMATION CONTACT: Manuel Quinones, NASA, Office of Procurement, telephone 202.358.2143.

SUPPLEMENTARY INFORMATION:

I. Background

During a recent quality review of the NFS to validate the accuracy and relevancy of its policy, guidance, and procedures, we discovered (1) an outdated reference to the NASA Acquisition Information System (NAIS) for posting agency business opportunities and (2) superseded titles to NASA directives. NASA posts all business opportunities through the Governmentwide Point of Entry (GPE) via the Internet at http://www.fedbizopps.gov and agency directives are periodically reviewed and updated. This rule amends NFS 1852.215-77 and 1852.245-82 to remove the reference to the NAIS electronic posting system and update titles to NASA policy directives respectively.

NASA has not published a proposed rule in the Federal Register to make these nonsubstantive changes because they affect only the internal operating procedures of the Government and have no significant cost or administrative or cost impact on contractors or offerors. NASA does not anticipate opposition to the changes or significant adverse comments. However, if the Agency receives a significant adverse comment, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

II. Publication of This Final Rule for Public Comment Is Not Required by Statute

Publication of proposed regulations”, 41 U.S.C. 1707, is the statute which applies to the publication of the Federal Acquisition Regulation. Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This direct final rule is not required to be published for public comment because it makes nonsubstantive changes to Agency regulations. It merely removes from the NASA FAR Supplement a reference to the NASA Acquisition Information System (NAIS) posting system and updates titles to agency-level directives.

III. Executive Orders 12866 and 13563

Executive Orders (E.O.s) 12866 and 13563 direct agencies to assess all costs and benefits of available regulatory alternatives and, if regulation is necessary, to select regulatory approaches that maximize net benefits (including potential economic, environmental, public health, and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant NFS revision within the meaning of FAR 1.501-1 and 41 U.S.C. 1707 and therefore does not require publication for public comment.

V. Paperwork Reduction Act

The rule does not contain any information collection requirements that require the approval of the Office of Management and Budget under the Paperwork Reduction Act (44 U.S.C. chapter 35).

List of Subjects in 48 CFR Part 1852

Government Procurement.

Manuel Quinones,
NASA FAR Supplement Manager.

Accordingly, 48 CFR part 1852 is amended as follows:

PART 1852—SOLICITATION PROVISIONS AND CONTRACT CLAUSES

1. The authority citation for part 1852 continues to read as follows:

Authority: 51 U.S.C. 20113(a) and 48 CFR chapter 1.

1852.215-77 [Amended]

2. Amend section 1852.215-77 by removing from paragraph (e) last sentence, the words “using the NAIS Electronic Posting System”.

1852.245-82 [Amended]

3. Amend section 1852.245-82 by—

a. Revising the title and date of the clause;

b. Removing in paragraph (a)(1) “NPD 8800.14, Policy for Real Property Management” and adding “NPD 8800.14, Policy for Real Estate Management” in its place; and

c. Removing in paragraph (a)(2) “NPD 8831.2, Facility Maintenance Management” and adding “NPD 8831.2, Facilities Maintenance and Operations Management” in its place.

The revision reads as follows:

1852.245-82 Occupancy management requirements.

* * * * *

Occupancy Management Requirements (September 15, 2017)

* * * * *

[FR Doc. 2017-16962 Filed 8-15-17; 8:45 am]

BILLING CODE 7510-13-P